ENVIRONMENTAL PROTECTION AGENCY

[FRL-9923-30-OEI]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et seq.). An agency may not conduct or sponsor, and a person is not required to respond to, a collection of information unless it displays a currently valid OMB control number. The OMB control numbers for EPA regulations are listed in 40 CFR part 9 and 48 CFR chapter 15.

FOR FURTHER INFORMATION CONTACT: Courtney Kerwin (202) 566-1669, or email at kerwin.courtney@epa.gov and please refer to the appropriate EPA Information Collection Request (ICR) Number.

SUPPLEMENTARY INFORMATION:

OMB Responses to Agency Clearance Requests

OMB Approvals

EPA ICR Number 1564.09; NSPS for Small Industrial-Commercial-Institutional Steam Generating Units (Renewal); 40 CFR part 60, subparts A and Dc; approved with change on 12/30/2014; OMB Number 2060-0202; expires on 12/31/2017.

EPA ICR Number 1053.11; NSPS for Electric Utility Steam Generating Units (Renewal); 40 CFR part 60, subparts A and Da; approved without change on 12/30/2014; OMB Number 2060-0023; expires on 12/31/2017.

EPA ICR Number 1626.12; National Refrigerant Recycling and Emissions Reduction Program (Renewal); was approved with change on 12/23/2014; OMB Number 2060-0256; expires on 12/23/2017.

EPA ICR Number 2473.02; RFS2 Voluntary RIN Quality Assurance Program (Final Rule); approved with change on 12/01/2014; OMB Control Number 2060-0688.

Courtney Kerwin,
Acting Director, Collections Strategies Division.

[FR Doc. 2015-03293 Filed 2-17-15; 8:45 am]

BILLING CODE 6560-50-P